NATIONAL SCIENCE FOUNDATION

Emergency Clearance; Public Information Collection Requirements Submitted to the Office of Management and Budget; Notice

AGENCY: National Science Foundation.

ACTION: Emergency Clearance: Public Information Collection Requirements Submitted to the Office of Management and Budget (OMB).

SUMMARY: The National Science Foundation (NSF) is announcing plans to request approval of this collection. In accordance with the requirement of section 3506(c)(2)(A) of the Paperwork Reduction Act of 1995 (Pub. L. 104-13), we are providing an opportunity for public comment on this action. After obtaining and considering public comment, NSF will prepare the submission requesting that OMB approve clearance of this collection for no longer than 3 years.

DATES: Interested persons are invited to send comments regarding the burden or any other aspect of these collections of information requirements. However, as noted below, comments on these information collection and record keeping requirements must be received by the designees referenced below by November 13, 2001.

ADDRESSES: Written comments regarding the information collection and requests for copies of the proposed information collection request should be addressed to Suzanne Plimpton, Reports Clearance Officer, National Science Foundation, 4201 Wilson Blvd., Rm. 295, Arlington, VA 22230, or by e-mail to splimpto@nsf.gov, and

Office of Information and Regulatory Affairs, Office of Management and Budget, Room 10235, New Executive Office Building, Washington, DC 20503. Attn: Lauren Wittenberg, NSF Desk Officer.

Comments: Written comments are invited on (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; or (d) ways to minimize the burden of the collection of information on those who are to respond, including through the use of appropriate automated, electronic, mechanical, or other technological collection techniques.

We are, however, requesting an emergency review of the information collection referenced below. In compliance with the requirement of section 3506(c)(2)(A) of the Paperwork Reduction Act of 1995, we have submitted to the Office of Management and Budget (OMB) the following requirements for emergency review. We are requesting an emergency review because the collection of this information is needed before the expiration of the normal time limits under OMB's regulations at 5 CFR part 1320.

FOR FURTHER INFORMATION CONTACT: Suzanne H. Plimpton, Reports Clearance Officer, National Science Foundation, 4201 Wilson Boulevard, Suite 295, Arlington, Virginia 22230; telephone (703) 292-7556; or send email to splimpto@nsf.gov. Individuals who use a telecommunications device for the deaf (TDD) may call the Federal Information Relay Service (FIRS) at 1-800-877-8339 between 8 a.m. and 8 p.m., Eastern time, Monday through Friday.

SUPPLEMENTARY INFORMATION:

Request for Emergency Clearance for Data Collection in Support of A Cross-Site Evaluation of National Science Foundation's Directorate for Education and Human Resources The Cross Site Analysis of The Integrative Graduate Education and Research Traineeship (IGERT) Program

OMB Approval Number: OMB 3145-(new).

Expiration Date: Not applicable.

Abstract: The National Science Foundation requests a 180-day emergency clearance for the Cross Site Analysis of the Integrative Graduate Education and Research Traineeship (IGERT) Program. This site-based interview component is a part of a mixed method impact study and complements and verifies data from the previously cleared IGERT Distance Monitoring System. NSF has determined that it cannot reasonably comply with the normal clearance procedures both because of the time-sensitive nature of this portion of the IGERT evaluation, and because of the burden to the 1998 cohort projects, and to visiting peer scientists, who have already agreed to participate in site visits. Without emergency clearance, it will not be possible to complete the 15 site visits in this cohort of projects (currently in their third year) during this academic year. For data to be useful to the IGERT Program Office, visits must be made during this pivotal third year of the five-year funding cycle, which allows time both for sufficient program development, and for NSF-requested project modifications, if necessary. The projects involve multiple departments/schools within universities as well as external partners and scheduling visits is difficult. Many sites have scheduled visits on the expectation of clearance and would be forced to reschedule without this emergency clearance, seriously inconveniencing both university personnel and other site visit participants.

Respondents: Individuals or households, business or other for-profit, and not-for profit institutions.

Number of Respondents: 880.

Burden on the Public: 843 hours.

Dated: November 2, 2001.
Suzanne H. Plimpton,
NSF Reports Clearance Officer.

[FR Doc. 01-28049 Filed 11-7-01; 8:45 am]

BILLING CODE 7555-01-M